POSTAL REGULATORY COMMISSION

[Docket Nos. CP2020-182; CP2023-16; MC2025-162 and K2025-160; MC2025-391 and K2025-389; MC2025-392 and K2025-390; MC2025-393 and K2025-391; MC2025-394 and K2025-392; MC2025-395 and K2025-393; MC2025-396 and K2025-394; MC2025-397 and K2025-395; MC2025-398 and K2025-396; MC2025-399 and K2025-397; MC2025-400 and K2025-398; MC2025-401 and K2025-399; MC2025-402 and K2025-400; MC2025-403 and K2025-401; MC2025-404 and K2025-402; MC2025-405 and K2025-403; MC2025-407 and K2025-405; MC2025-408 and K2025-406; MC2025-409 and K2025-407; MC2025-410 and K2025-408; MC2025-411 and K2025-409; MC2025-412 and K2025-410]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: November 22, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: CP2020-182; Filing Title: Request of the United States Postal Service Concerning Modification Four to Global Reseller Expedited Package 2 Negotiated Service Agreement, Which Includes an Extension of That Agreement; Filing Acceptance Date: November 14, 2024; Filing Authority: 39 CFR 3035.105, 39 CFR 3041.505, and 39 CFR 3041.515; Public Representative: Katalin Clendenin; Comments Due: November 22, 2024.

2. Docket No(s).: CP2023-16; Filing Title: Request of the United States Postal Service Concerning Modification Two to Priority Mail Express International, Priority Mail International & First-Class Package International Service Contract 8, Which Includes an Extension of That Agreement; Filing Acceptance Date: November 14, 2024; Filing Authority: 39 CFR 3035.105, 39 CFR 3041.505, and 39 CFR 3041.515; Public Representative: Katalin Clendenin; Comments Due: November 22, 2024.

3. Docket No(s).: MC2025-162 and K2025-160; Filing Title: USPS Request to Add Priority Mail Express, Priority Mail & USPS Ground Advantage Contract 539 to the Competitive Product List and Notice of Filing Materials Under Seal; Filing Acceptance Date: October 25, 2024; Filing Authority: 39 U.S.C. 3642, 39 CFR 3035.105, and 39 CFR 3041.310; Public Representative: Gregory Stanton; Comments Due: November 22, 2024.

4. Docket No(s).: MC2025-391 and K2025-389; Filing Title: USPS Request to Add Priority Mail Express, Priority Mail & USPS Ground Advantage Contract 712 to the Competitive Product List and Notice of Filing Materials Under Seal; Filing Acceptance Date: November 14, 2024; Filing Authority: 39 U.S.C. 3642, 39 CFR 3035.105, and 39 CFR 3041.310; Public Representative: Almaroof Agoro; Comments Due: November 22, 2024.

5. Docket No(s).: MC2025-392 and K2025-390; Filing Title: USPS Request to Add Priority Mail Express, Priority Mail & USPS Ground Advantage Contract 713 to the Competitive Product List and Notice of Filing Materials Under Seal; Filing Acceptance Date: November 14, 2024; Filing Authority: 39 U.S.C. 3642, 39 CFR 3035.105, and 39 CFR 3041.310; Public Representative: Almaroof Agoro; Comments Due: November 22, 2024.

6. Docket No(s).: MC2025-393 and K2025-391; Filing Title: USPS Request to Add Priority Mail Express, Priority Mail & USPS Ground Advantage Contract 714 to the Competitive Product List and Notice of Filing Materials Under Seal; Filing Acceptance Date: November 14, 2024; Filing Authority: 39 U.S.C. 3642, 39 CFR 3035.105, and 39 CFR 3041.310; Public Representative: Almaroof Agoro; Comments Due: November 22, 2024.

7. Docket No(s).: MC2025-394 and K2025-392; Filing Title: USPS Request to Add Priority Mail & USPS Ground Advantage Contract 461 to the Competitive Product List and Notice of Filing Materials Under Seal; Filing Acceptance Date: November 14, 2024; Filing Authority: 39 U.S.C. 3642, 39 CFR 3035.105, and 39 CFR 3041.310; Public Representative: Almaroof Agoro; Comments Due: November 22, 2024.

8. Docket No(s).: MC2025-395 and K2025-393; Filing Title: USPS Request to Add Priority Mail Express, Priority Mail & USPS Ground Advantage Contract 715 to the Competitive Product List and Notice of Filing Materials Under Seal; Filing Acceptance Date: November 14, 2024; Filing Authority: 39 U.S.C. 3642, 39 CFR 3035.105, and 39 CFR 3041.310; Public Representative: Almaroof Agoro; Comments Due: November 22, 2024.

9. Docket No(s).: MC2025-396 and K2025-394; Filing Title: USPS Request to Add Priority Mail Express, Priority Mail & USPS Ground Advantage Contract 716 to the Competitive Product List and Notice of Filing Materials Under Seal; Filing Acceptance Date: November 14, 2024; Filing Authority: 39 U.S.C. 3642, 39 CFR 3035.105, and 39 CFR 3041.310; Public Representative: Maxine Bradley; Comments Due: November 22, 2024.

10. Docket No(s).: MC2025-397 and K2025-395; Filing Title: USPS Request to Add Priority Mail Express, Priority Mail & USPS Ground Advantage Contract 717 to the Competitive Product List and Notice of Filing Materials Under Seal; Filing Acceptance Date: November 14, 2024; Filing Authority: 39 U.S.C. 3642, 39 CFR 3035.105, and 39 CFR 3041.310; Public Representative: Maxine Bradley; Comments Due: November 22, 2024.

11. Docket No(s).: MC2025-398 and K2025-396; Filing Title: USPS Request to Add Priority Mail Express, Priority Mail & USPS Ground Advantage Contract 718 to the Competitive Product List and Notice of Filing Materials Under Seal; Filing Acceptance Date: November 14, 2024; Filing Authority: 39 U.S.C. 3642, 39 CFR 3035.105, and 39 CFR 3041.310; Public Representative: Maxine Bradley; Comments Due: November 22, 2024.

12. Docket No(s).: MC2025-399 and K2025-397; Filing Title: USPS Request to Add Priority Mail Express, Priority Mail & USPS Ground Advantage Contract 719 to the Competitive Product List and Notice of Filing Materials Under Seal; Filing Acceptance Date: November 14, 2024; Filing Authority: 39 U.S.C. 3642, 39 CFR 3035.105, and 39 CFR 3041.310; Public Representative: Christopher Mohr; Comments Due: November 22, 2024.

13. Docket No(s).: MC2025-400 and K2025-398; Filing Title: USPS Request to Add Priority Mail Express, Priority Mail & USPS Ground Advantage Contract 720 to the Competitive Product List and Notice of Filing Materials Under Seal; Filing Acceptance Date: November 14, 2024; Filing Authority: 39 U.S.C. 3642, 39 CFR 3035.105, and 39 CFR 3041.310; Public Representative: Christopher Mohr; Comments Due: November 22, 2024.

14. Docket No(s).: MC2025-401 and K2025-399; Filing Title: USPS Request to Add Priority Mail Express, Priority Mail & USPS Ground Advantage Contract 721 to the Competitive Product List and Notice of Filing Materials Under Seal; Filing Acceptance Date: November 14, 2024; Filing Authority: 39 U.S.C. 3642, 39 CFR 3035.105, and 39 CFR 3041.310; Public Representative: Maxine Bradley; Comments Due: November 22, 2024.

15. Docket No(s).: MC2025-402 and K2025-400; Filing Title: USPS Request to Add Priority Mail & USPS Ground Advantage Contract 462 to the Competitive Product List and Notice of Filing Materials Under Seal; Filing Acceptance Date: November 14, 2024; Filing Authority: 39 U.S.C. 3642, 39 CFR 3035.105, and 39 CFR 3041.310; Public Representative: Maxine Bradley; Comments Due: November 22, 2024.

16. Docket No(s).: MC2025-403 and K2025-401; Filing Title: USPS Request to Add Priority Mail Express, Priority Mail & USPS Ground Advantage Contract 722 to the Competitive Product List and Notice of Filing Materials Under Seal; Filing Acceptance Date: November 14, 2024; Filing Authority: 39 U.S.C. 3642, 39 CFR 3035.105, and 39 CFR 3041.310; Public Representative: Christopher Mohr; Comments Due: November 22, 2024.

17. Docket No(s).: MC2025-404 and K2025-402; Filing Title: USPS Request to Add Priority Mail Express, Priority Mail & USPS Ground Advantage Contract 723 to the Competitive Product List and Notice of Filing Materials Under Seal; Filing Acceptance Date: November 14, 2024; Filing Authority: 39 U.S.C. 3642, 39 CFR 3035.105, and 39 CFR 3041.310; Public Representative: Christopher Mohr; Comments Due: November 22, 2024.

18. Docket No(s).: MC2025-405 and K2025-403; Filing Title: USPS Request to Add Priority Mail Express, Priority Mail & USPS Ground Advantage Contract 724 to the Competitive Product List and Notice of Filing Materials Under Seal; Filing Acceptance Date: November 14, 2024; Filing Authority: 39 U.S.C. 3642, 39 CFR 3035.105, and 39 CFR 3041.310; Public Representative: Elsie Lee-Robbins; Comments Due: November 22, 2024.

19. Docket No(s).: MC2025-407 and K2025-405; Filing Title: USPS Request to Add Priority Mail Express, Priority Mail & USPS Ground Advantage Contract 725 to the Competitive Product List and Notice of Filing Materials Under Seal; Filing Acceptance Date: November 14, 2024; Filing Authority: 39 U.S.C. 3642, 39 CFR 3035.105, and 39 CFR 3041.310; Public Representative: Gregory Stanton; Comments Due: November 22, 2024.

20. Docket No(s).: MC2025-408 and K2025-406; Filing Title: USPS Request to Add Priority Mail Express, Priority Mail & USPS Ground Advantage Contract 726 to the Competitive Product List and Notice of Filing Materials Under Seal; Filing Acceptance Date: November 14, 2024; Filing Authority: 39 U.S.C. 3642, 39 CFR 3035.105, and 39 CFR 3041.310; Public Representative: Jennaca Upperman; Comments Due: November 22, 2024.

21. Docket No(s).: MC2025-409 and K2025-407; Filing Title: USPS Request to Add Priority Mail Express, Priority Mail & USPS Ground Advantage Contract 727 to the Competitive Product List and Notice of Filing Materials Under Seal; Filing Acceptance Date: November 14, 2024; Filing Authority: 39 U.S.C. 3642, 39 CFR 3035.105, and 39 CFR 3041.310; Public Representative: Jennaca Upperman; Comments Due: November 22, 2024.

22. Docket No(s).: MC2025-410 and K2025-408; Filing Title: USPS Request to Add Priority Mail Express, Priority Mail & USPS Ground Advantage Contract 728 to the Competitive Product List and Notice of Filing Materials Under Seal; Filing Acceptance Date: November 14, 2024; Filing Authority: 39 U.S.C. 3642, 39 CFR 3035.105, and 39 CFR 3041.310; Public Representative: Gregory Stanton; Comments Due: November 22, 2024.

23. Docket No(s).: MC2025-411 and K2025-409; Filing Title: USPS Request to Add Priority Mail Express, Priority Mail & USPS Ground Advantage Contract 729 to the Competitive Product List and Notice of Filing Materials Under Seal; Filing Acceptance Date: November 14, 2024; Filing Authority: 39 U.S.C. 3642, 39 CFR 3035.105, and 39 CFR 3041.310; Public Representative: Jennaca Upperman; Comments Due: November 22, 2024.

24. Docket No(s).: MC2025-412 and K2025-410; Filing Title: USPS Request to Add Priority Mail Express, Priority Mail & USPS Ground Advantage Contract 730 to the Competitive Product List and Notice of Filing Materials Under Seal; Filing Acceptance Date: November 14, 2024; Filing Authority: 39 U.S.C. 3642, 39 CFR 3035.105, and 39 CFR 3041.310; Public Representative: Jennaca Upperman; Comments Due: November 22, 2024.

III. Summary Proceeding(s)

None. See Section II for public proceedings.

This Notice will be published in the Federal Register.

Erica A. Barker,
Secretary.

[FR Doc. 2024-27126 Filed 11-19-24; 8:45 am]

BILLING CODE 7710-FW-P